DEPARTMENT OF ENERGY

Energy Information Administration

Agency Information Collection Extension

AGENCY: U.S. Energy Information Administration (EIA), U.S. Department of Energy (DOE).

ACTION: Notice and request for comments.

SUMMARY: DOE submitted an information collection request for extension as required by the Paperwork Reduction Act of 1995. The information collection requests a three-year extension of its Form GC-859 Nuclear Fuel Data Survey, OMB Control Number 1901-0287. Form GC-859 collects data on spent nuclear fuel from all utilities that operate commercial nuclear reactors and from all others that possess irradiated fuel from commercial nuclear reactors.

DATES: Comments on this information collection must be received no later than March 23, 2026. If you anticipate any difficulties in submitting comments by the deadline, contact the person listed in ADDRESSES section of this notice as soon as possible.

ADDRESSES: You may submit comments, identified by OMB control number 1901-0287, by email at GC859-FRN-Comments@pnnl.gov. Include the OMB control number listed in the subject line of the message.

FOR FURTHER INFORMATION CONTACT: If you need additional information, contact Debra Coaxum, EIA Clearance Officer, at (202) 586-7876. The current and proposed Form GC-859 and instructions are available on EIA's website at https://www.eia.gov/survey/#gc-859.

SUPPLEMENTARY INFORMATION: This information collection request contains:

(1) OMB No.: 1901-0287;

(2) Information Collection Request Title: Nuclear Fuel Data Survey;

(3) Type of Request: Three-year extension with changes;

(4) Purpose: The Nuclear Waste Policy Act of 1982 (42 U.S.C. 10101 et seq.) required that DOE enter into Standard Contracts with all generators or owners of spent nuclear fuel and high-level radioactive waste of domestic origin. Form GC-859 (formerly Form RW-859) originated from an appendix to this Standard Contract.

Form GC-859 Nuclear Fuel Data Survey collects information on nuclear fuel use and spent fuel discharges from all utilities that operate commercial nuclear reactors and from all others that possess irradiated fuel from commercial nuclear reactors. The data collection provides stakeholders with detailed information concerning the spent nuclear fuel generated by the respondents (commercial utility generators of spent nuclear fuel and other owners of spent nuclear fuel within the U.S.).

Data collected from the survey are used by personnel from DOE Office of Nuclear Energy (NE), DOE Office of Environmental Management (EM), and the national laboratories to meet their research objectives of developing a range of options and supporting analyses that facilitate informed choices about how best to manage spent nuclear fuel (SNF);

(4a) Proposed Changes to Information Collection:

• Clarified instructions, definitions, and tables based on the feedback received from the last survey collection. This lessens the burden on respondents by avoiding unnecessary need for clarifications.

• Section B.2: Reactor License Data. Section B.2 is being discontinued because the license status and other data is publicly available on the Nuclear Regulatory Commission's website. Section B.2 now indicates “Discontinued” to preserve the subsection numbering in Section B.

• Section C.1.1: Data on Discharged Fuel Assemblies and Non-Fuel Components Integral to the Assembly—Addition of an optional data field for Assembly-Average Initial Enrichment. The form currently includes a data field only for Maximum Planar-Average Initial Enrichment. Assembly-Average Initial Enrichment is critical for evaluating decay heat and dose rates, while Maximum Planar-Average Initial Enrichment accounts for axial and radial variations in enrichment, essential for criticality safety assessments. Having data for both enrichment values allows DOE to apply the appropriately conservative parameter to each discipline—maximum planar-average for criticality, assembly-average for shielding and thermal—thus reducing unnecessary conservativism and uncertainty while maintaining safety margins which enables DOE to have the information necessary for effective planning of future spent nuclear fuel transport and storage while maintaining compliance with thermal, radiological, and criticality safety requirements.

• Reinstating section C.2: Projected Assembly Discharges. DOE paused collection of projected assembly discharge data in section C.2 starting with the survey covering the July 1, 2013-December 31, 2017 period. However, reinstating this section is now necessary to provide insight on planned changes in reactor operations, particularly power uprates and the introduction of high-assay low-enriched uranium fuel. These developments will directly impact spent fuel characteristics, including enrichment levels and burnup rates. By collecting data on projected assembly discharges, DOE can ensure that it has the necessary information to manage and plan spent fuel storage, disposal strategies, and infrastructure investments in light of these anticipated changes. Section C.2 includes improvements for clarity of data requested.

• Non-Fuel Components (NFC). The 3 NFC columns in Table C.1.1 will be removed (NFC, NFC Identifier, and Estimated Total Weight) and added to the D.3.3 (Assemblies in Dry Storage) table. The NFC stored in the pool is already captured in Section E: Non-Fuel Data and the text was modified in E.2: Non-Fuel Components—Integral to an Assembly. This change was made to simplify the reporting of non-fuel components in the spent fuel pool. For these components, DOE does not require tracking of their current location in the spent fuel pool, only the tentative amount of hardware delivered to DOE. This reduces the burden on respondents by not requiring them to track and report the location of hardware components in the pool.

• D.3.3: Assemblies in Dry Storage. An additional column for Damaged Fuel Canister (DFC) will be added to the D.3.3 table. This eases the burden on respondents because this change improves clarity by avoiding confusion between a single assembly canister in section C.3.1 and a DFC reported in D.3.3. Additionally, it enhances clarity during canister unloading, ensuring it is clear which assemblies are damaged and whether additional hardware is present in the cask. This information is also used to verify compliance with the Certificate of Compliance when accepting the cask for transportation.

• Appendix C: Reactor and Spent Fuel Storage Site Identification Codes. Appendix C has been updated to remove numeric ID numbers for reactors or storage locations. These have been replaced with easily recognizable names, consistent with the choices in the web-application. Pools that no longer exist or that are no longer planned for storage have been removed from the list. Appendix C has been renamed to Reactor or Facility and Spent Fuel Storage Site. The form has been revised to remove references to numeric IDs, so the form now contains only user friendly, easily recognizable names.

• Appendix E: Fuel Assembly Type Codes. Appendix E has been modified to include codes submitted on the 2023 data collection that were not already on the list and to remove codes that are not in use, for the convenience of the respondents.

(5) Annual Estimated Number of Respondents: 126;

(6) Annual Estimated Number of Total Responses: 42;

(7) Annual Estimated Number of Burden Hours: 3,707;

(8) Annual Estimated Reporting and Recordkeeping Cost Burden: The information is maintained in the normal course of business. The cost of the burden hours is estimated to be $352,128 (3,707 burden hours times $94.99 per hour). DOE estimates that respondents will have no additional costs associated with the surveys other than the burden hours and the maintenance of the information during the normal course of business.

Comments are invited on whether or not: (a) The proposed collection of information is necessary for the proper performance of agency functions, including whether the information will have a practical utility; (b) DOE's estimate of the burden of the proposed collection of information, including the validity of the methodology and assumptions used, is accurate; (c) DOE can improve the quality, utility, and clarity of the information it will collect; and (d) DOE can minimize the burden of the collection of information on respondents, such as automated collection techniques or other forms of information technology.

Statutory Authority: Section 13(b) of the Federal Energy Administration Act of 1974, Public Law 93-275, codified as 15 U.S. C. 772(b) and the DOE Organization Act of 1977, Public Law 95-91, codified at 42 U.S.C. 7101 et seq., The Nuclear Waste Policy Act of 1982 codified at 42 U.S.C. 10222 et seq.

Signed in Washington, DC, on February 17, 2026.
Debra Coaxum,
Acting Director, Office of Statistical Methods and Research, U.S. Energy Information Administration.

[FR Doc. 2026-03373 Filed 2-19-26; 8:45 am]

BILLING CODE 6450-01-P